SMALL BUSINESS ADMINISTRATION

Dealer Floor Plan Pilot Program Meeting

AGENCY: U.S. Small Business Administration (SBA).

ACTION: Notice of open meeting.

SUMMARY: The SBA is issuing this notice to announce the location, date, time, and agenda for a meeting regarding the Dealer Floor Plan Pilot Program established in the Small Business Jobs Act of 2010. The meeting will be open to the public.

DATES: The Dealer Floor Plan Pilot Program meeting will be held on November 16, 2010 from approximately 9 a.m. to 12 p.m. Eastern Standard Time.

ADDRESSES: The meeting will be held in the Eisenhower Conference Room at SBA Headquarters located at 409 Third Street, SW., Second Floor, Washington, DC 20416.

SUPPLEMENTARY INFORMATION: The SBA is holding an open meeting to discuss the Dealer Floor Plan Pilot Program established in the Small Business Jobs Act of 2010 (Pub. L. 111-240). The purpose of the meeting is to obtain feedback from the public on their experiences with floor plan financing programs and SBA's previous Dealer Floor Plan Pilot Initiative that expired on September 30, 2010. In particular, SBA would like to obtain comments from the public relating to their experiences with the following issues: Advance rates, curtailment policies, collateral monitoring procedures, and fees typically charged to administer this type of financing.

FOR FURTHER INFORMATION CONTACT: The Dealer Floor Plan Pilot Program meeting is open to the public; however, seating is limited so advance notice of attendance is requested. Written comments may be submitted at the meeting or provided to SBA in advance of the meeting. To register, submit written comments, or for further information, please contact Patrick Kelley, Senior Advisor to the Associate Administrator, Office of Capital Access, U.S. Small Business Administration, phone (202) 205-0067, fax (202) 292-3844, or e-mail Patrick.kelley@sba.gov. If you are unable to attend the meeting in person, you may participate by telephone by calling (866) 740-1260 and using access code 3710104.

Additionally, if you need accommodations because of a disability or require additional information, please contact Patrick Kelley, Senior Advisor to the Associate Administrator, Office of Capital Access, by November 15, 2010 at phone (202) 205-0067, fax (202) 292-3844, or e-mail Patrick.kelley@sba.gov.

Grady B. Hedgespeth,
Director, Office of Financial Assistance.

[FR Doc. 2010-28715 Filed 11-15-10; 8:45 am]

BILLING CODE 8025-01-P